FEDERAL COMMUNICATIONS COMMISSION

[OMB 3060-0686 and 3060-0944]

Information Collections Being Submitted for Review and Approval to the Office of Management and Budget

AGENCY: Federal Communications Commission.

ACTION: Notice and request for comments.

SUMMARY: As part of its continuing effort to reduce paperwork burdens, and as required by the Paperwork Reduction Act (PRA) of 1995 (44 U.S.C. 3501-3520), the Federal Communications Commission (FCC or Commission) invites the general public and other Federal agencies to take this opportunity to comment on the following information collections. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

The FCC may not conduct or sponsor a collection of information unless it displays a currently valid OMB control number. No person shall be subject to any penalty for failing to comply with a collection of information subject to the PRA that does not display a valid OMB control number.

DATES: Written comments should be submitted on or before January 23, 2015. If you anticipate that you will be submitting comments, but find it difficult to do so within the period of time allowed by this notice, you should advise the contacts below as soon as possible.

ADDRESSES: Direct all PRA comments to Nicholas A. Fraser, OMB, via email Nicholas_A._Fraser@omb.eop.gov; and to Cathy Williams, FCC, via email PRA@fcc.gov and to Cathy.Williams@fcc.gov. Include in the comments the OMB control number as shown in the SUPPLEMENTARY INFORMATION section below.

FOR FURTHER INFORMATION CONTACT: For additional information or copies of the information collection, contact Cathy Williams at (202) 418-2918. To view a copy of this information collection request (ICR) submitted to OMB: (1) go to the Web page <http://www.reginfo.gov/public/do/PRAMain>, (2) look for the section of the Web page called “Currently Under Review,” (3) click on the downward-pointing arrow in the “Select Agency” box below the “Currently Under Review” heading, (4) select “Federal Communications Commission” from the list of agencies presented in the “Select Agency” box, (5) click the “Submit” button to the right of the “Select Agency” box, (6) when the list of FCC ICRs currently under review appears, look for the OMB control number of this ICR and then click on the ICR Reference Number. A copy of the FCC submission to OMB will be displayed.

SUPPLEMENTARY INFORMATION: OMB Control Number: 3060-0686.

Title: International Section 214 Authorization Process and Tariff Requirements—47 CFR 63.10, 63.11, 63.13, 63.18, 63.19, 63.21, 63.24, 63.25 and 1.1311.

Form Number: International Section 214—New Authorization; International Section 214 Authorization—Transfer of Control/Assignment; International Section 214—Special Temporary Authority and International Section 214—Foreign Carrier Affiliation Notification.

Type of Review: Revision of a currently approved collection.

Respondents: Business and other for-profit.

Number of Respondents and Responses: 495 respondents; 748 responses.

Estimated Time per Response: 0.50 hour to 15 hours.

Frequency of Response: On occasion reporting requirement, Quarterly reporting requirement, Recordkeeping requirement and third party disclosure requirement.

Obligation to Respond: Required to obtain or retain benefits. The statutory authority for this collection is contained in sections 1, 4(i), 4(j), 11, 201-205, 208, 211, 214, 219, 220, 303(r), 309, 310 and 403 of the Communications Act of 1934, as amended, 47 U.S.C. 151, 154(i), 154(j), 161, 201-205, 208, 211, 214, 219, 220, 303(r), 309, 310 and 403.

Total Annual Burden: 3,286 hours.

Total Annual Cost: $755,400.

Privacy Act Impact Assessment: No impact(s).

Nature and Extent of Confidentiality: In general, there is no need for confidentiality with this collection of information.

Needs and Uses: The Federal Communications Commission (Commission) is requesting that the Office of Management and Budget (OMB) approve a revision of OMB Control No. 3060-0686. The purpose of this revision is to obtain OMB approval of rules adopted in the Commission's Report and Order in IB Docket No. 12-299, FCC 14-48, adopted and released on August 22, 2014 (Report and Order). In the Report and Order, the Commission eliminated the effective competitive opportunities (ECO) test from sections 63.11(g)(2) and 63.18(k) of the Commission's rules, 47 CFR 63.11(g)(2), 63.18(k), which apply to applications filed under section 63.18, 47 CFR 63.18, for authority to provide U.S.-international telecommunications service pursuant to section 214 of the Communications Act of 1934, as amended (Communications Act), 47 U.S.C. 214, and to foreign carrier affiliation notifications filed under section 63.11 of the Commission's rules, 47 CFR 63.11. The Commission is also making adjustments to the hour and cost burdens associated with other rules and requirements covered by this information collection.

The information will be used by the Commission staff in carrying out its duties under the Communications Act. The information collections are necessary largely to determine the qualifications of applicants to provide common carrier international telecommunications service, including applicants that are, or are affiliated with, foreign carriers, and to determine whether and under what conditions the authorizations are in the public interest, convenience, and necessity. The information collections are also necessary to maintain effective oversight of U.S. international carriers generally.

If the collections are not conducted or are conducted less frequently, applicants will not obtain the authorizations necessary to provide telecommunications services, and the Commission will be unable to carry out its mandate under the Communications Act. In addition, without the information collections, the United States would jeopardize its ability to fulfill the U.S. obligations as negotiated under the WTO Basic Telecom Agreement because these collections are imperative to detecting and deterring anticompetitive conduct. They are also necessary to preserve the Executive Branch agencies' and the Commission's ability to review foreign investments for national security, law enforcement, foreign policy, and trade concerns.

OMB Control Number: 3060-0944.

Title: Cable Landing License Act, 47 CFR 1.767; 1.768; Executive Order 10530.

Form Number: Submarine Cable Landing License Application.

Type of Review: Revision of a currently approved collection.

Respondents: Business and other for-profit.

Number of Respondents and Responses: 38 respondents; 94 responses.

Estimated Time per Response: 0.50 hour-17 hours.

Frequency of Response: On occasion reporting requirement, Quarterly reporting requirement, Recordkeeping requirement and third party disclosure requirement.

Obligation to Respond: Required to obtain or retain benefits. The statutory authority for this collection is contained in the Submarine Cable Landing License Act of 1921, 47 U.S.C. 34-39, Executive Order 10530, section 5(a), and the Communications Act of 1934, as amended, 47 U.S.C. 151, 152, 154(i)-(j), 155, 303(r), 309, 403.

Total Annual Burden: 421 hours.

Total Annual Cost: $88,505.

Privacy Act Impact Assessment: No impact(s).

Nature and Extent of Confidentiality: In general, there is no need for confidentiality with this collection of information.

Needs and Uses: The Federal Communications Commission (Commission) is requesting that the Office of Management and Budget (OMB) approve a revision of OMB Control No. 3060-0944. The purpose of this revision is to obtain OMB approval of rules adopted in the Commission's Report and Order in IB Docket No. 12-299, FCC 14-48, adopted and released on August 22, 2014 (Report and Order). In the Report and Order, the Commission eliminated the effective competitive opportunities (ECO) test from sections 1.767(a)(8) and 1.768(g)(2) of the Commission's rules, 47 CFR 1.767(a)(8), 1.768(g)(2), which apply to cable landing license applications filed under the Submarine Cable Landing License Act of 1921, 47 U.S.C. 34-39, and section 1.767 of the Commission's rules, 47 CFR 1.767, and to foreign carrier affiliation notifications filed under section 1.768 of the Commission's rules, 47 CFR 1.768. The Commission is also making adjustments to the hour and cost burdens associated with other rules and requirements covered by this information collection.

The information will be used by the Commission staff in carrying out its duties under the Submarine Cable Landing License Act of 1921, 47 U.S.C. 34-39, Executive Order 10530, section 5(a), and the Communications Act of 1934, as amended. The information collections are necessary largely to determine whether and under what conditions the Commission should grant a license for proposed submarine cables landing in the United States, including applicants that are, or are affiliated with, foreign carriers in the destination market of the proposed submarine cable. Pursuant to Executive Order No. 10530, the Commission has been delegated the President's authority under the Cable Landing License Act to grant cable landing licenses, provided that the Commission must obtain the approval of the State Department and seek advice from other government agencies as appropriate. If the collection is not conducted or is conducted less frequently, applicants will not obtain the authorizations necessary to provide telecommunications services and facilities, and the Commission will be unable to carry out its mandate under the Cable Landing License Act and Executive Order 10530. In addition, without the collection, the United States would jeopardize its ability to fulfill the U.S. obligations as negotiated under the World Trade Organization (WTO) Basic Telecom Agreement because certain of these information collection requirements are imperative to detecting and deterring anticompetitive conduct. They are also necessary to preserve the Executive Branch agencies' and the Commission's ability to review foreign investments for national security, law enforcement, foreign policy, and trade concerns.

Federal Communications Commission.
Marlene H. Dortch,
Secretary, Office of the Secretary, Office of the Managing Director.

[FR Doc. 2014-30077 Filed 12-23-14; 8:45 am]

BILLING CODE 6712-01-P